DEPARTMENT OF ENERGY

Federal Energy Regulatory Commission

[Docket No. RP05-550-001]

Portland General Electric Company; Notice of Compliance Filing

September 16, 2005.

Take notice that on September 12, 2005, Portland General Electric Company (PGE) tendered for filing as part of its FERC Gas Tariff, Original Volume No.1, the tariff sheets listed in its filing, to be effective September 1, 2005.

PGE states that the purpose of this filing is to revise PGE's FERC Gas Tariff to comply with the Commission's Letter Order issued on August 31, 2005 accepting PGE's initial revised tariff sheets effective September 1, 2005, subject to the following two conditions: Deleting reference to GISB standard 2.4.3 and GISB standard 2.3.4 and incorporating NAESB WGQ Standards 4.3.89 through 4.3.92.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5231 Filed 9-27-05; 8:45 am]

BILLING CODE 6717-01-P